DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's intention to request an extension for a currently approved information collection in support of the program for 7 CFR part 4284, subpart G, Rural Business Opportunity Grant Program.

DATES: Comments on this notice must be received by January 13, 2014 to be considered.

FOR FURTHER INFORMATION CONTACT: Mr. Chad Parker, Deputy Administrator, Rural Business-Cooperative Service, USDA, Room 4016-South, MS 3252, 1400 Independence Ave. SW., Washington, DC 20250. Telephone: (202) 720-7558, Email chad.parker@wdc.usda.gov.

SUPPLEMENTARY INFORMATION: Title: Rural Business Opportunity Grants.

OMB Number: 0570-0024.

Expiration Date of Approval: March 31, 2014.

Type of Request: Extension of a currently approved information collection.

Abstract: The objective of the Rural Business Opportunity Grant (RBOG) program is to promote sustainable economic development in rural areas. This purpose is achieved through grants made by the Rural Business-Cooperative Service (RBS) to public bodies, non-profit corporations, Indian Tribes on Federal or State reservations and other Federally-recognized tribal groups, and cooperatives whose members are primarily rural residents to pay costs of economic development planning and technical assistance for rural businesses. The regulations contain various requirements for information from grant applicants and recipients. The information requested is necessary for RBS to be able to process applications in a responsible manner, make prudent program decisions, and effectively monitor the grantees' activities to ensure that funds obtained from the Government are used appropriately. Objectives include gathering information to determine the eligibility and financial capability of the applicant, to determine the eligibility of the proposed use of funds, to assess the quality of the project for evaluation and grant selection, and to monitor grantees to ensure funds are used in accordance with approved scopes of work and applicable laws and regulations.

Estimate of Burden: Public reporting burden for this collection of information is estimated to average 7.4 hours per response.

Respondents: Public bodies, non-profit corporations, Indian Tribes on Federal and State reservations and other Federally-recognized tribal groups, and cooperatives whose members are primarily rural residents.

Estimated Number of Respondents: 267.

Estimated Number of Responses per Respondent: 9.

Estimated Number of Responses: 1971.

Estimated Total Annual Burden on Respondents: 17,842.25.

Copies of this information collection can be obtained from Jeanne Jacobs, Regulations and Paperwork Management Branch, (202) 692-0040.

Comments

Comments are invited on: (a) Whether the proposed collection of information is necessary for the proper performance of the functions of Rural Business-Cooperative Service, including whether the information will have practical utility; (b) the accuracy of Rural Business-Cooperative Service's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments on the paperwork burden may be sent to Jeanne Jacobs, Regulations and Paperwork Management Branch, Rural Development, U.S. Department of Agriculture, STOP 0742, 1400 Independence Avenue SW., Washington, DC 20250-0742. All responses to this notice will be summarized and included in the request for OMB approval. All comments will also become a matter of public record.

Dated: September 26, 2013.
Lillian Salerno,
Administrator, Rural Business-Cooperative Service.

[FR Doc. 2013-27097 Filed 11-12-13; 8:45 am]

BILLING CODE 3410-XY-P